DEPARTMENT OF COMMERCE

National Institute of Standards and Technology

Open Meeting of the Information Security and Privacy Advisory Board

AGENCY: National Institute of Standards and Technology, Commerce.

ACTION: Notice.

SUMMARY: The Information Security and Privacy Advisory Board (ISPAB) will meet Wednesday, October 22, 2014, from 8:30 a.m. until 5:00 p.m. Eastern Time, Thursday, October 23, 2014, from 8:30 a.m. until 5:00 p.m. Eastern Time, and Friday, October 24, 2014, from 8:30 a.m. until 12:00 p.m. Eastern Time. All sessions will be open to the public.

DATES: The meeting will be held on Wednesday, October 22, 2014, from 8:30 a.m. until 5:00 p.m. Eastern Time, Thursday, October 23, 2014, from 8:30 a.m. until 5:00 p.m. Eastern Time, and Friday, October 24, 2014, from 8:30 a.m. until 12:00 p.m. Eastern Time.

ADDRESSES: The meeting will take place at the United States Access Board Conference Room, 1331 F Street NW., Suite 800, Washington, DC 20004.

FOR FURTHER INFORMATION CONTACT: Annie Sokol, Information Technology Laboratory, National Institute of Standards and Technology, 100 Bureau Drive, Stop 8930, Gaithersburg, MD 20899-8930, telephone: (301) 975-2006, or by email at: annie.sokol@nist.gov.

SUPPLEMENTARY INFORMATION: Pursuant to the Federal Advisory Committee Act, as amended, 5 U.S.C. App., notice is hereby given that the Information Security and Privacy Advisory Board (ISPAB) will meet Wednesday, October 22, 2014, from 8:30 a.m. until 5:00 p.m. Eastern Time, Thursday, October 23, 2014, from 8:30 a.m. until 5:00 p.m. Eastern Time, and Friday, October 24, 2014, from 8:30 a.m. until 12:00 p.m. Eastern Time. All sessions will be open to the public. The ISPAB is authorized by 15 U.S.C. 278g-4, as amended, and advises the National Institute of Standards and Technology (NIST), and the Director of the Office of Management and Budget (OMB) on information security and privacy issues pertaining to Federal government information systems, including thorough review of proposed standards and guidelines developed by NIST. Details regarding the ISPAB's activities are available at http://csrc.nist.gov/groups/SMA/ispab/index.html.

The agenda is expected to include the following items:

—Discussion on cloud geolocation and privacy,

—Report on the Surveillance Program Operated Pursuant to Section 702 of the Foreign Intelligence Surveillance Act (FISA), 50 U.S.C. 1881a, from the Privacy and Civil Liberties Oversight Board,

—Discussion on Continuous Monitoring and Continuous Diagnostics and Mitigation (CDM),

—Discussion on security, privacy and processes on meaningful use healthcare technology,

—Presentation on drones and privacy,

—Presentation on Mutual Legal Assistance Treaties (MLATs) in relation to intelligence and communication technologies,

—Discussion on mobile devices and protection of sensitive information,

—Updates on NIST Privacy Engineering Workshop,

—Updates on Federal Risk and Authorization Management Program (FedRAMP),

—Discussion on safeguarding health information,

—Discussion on NIST Visiting Committee on Advanced Technology Report on NIST Cryptographic Standards and Guidelines Development Process http://www.nist.gov/director/vcat/cryptographic-standards-guidelines-process.cfm, and

—Update on NIST Computer Security Division.

Note that agenda items may change without notice. The final agenda will be posted on the Web site indicated above. Seating will be available for the public and media. No registration is required to attend this meeting.

Public Participation: The ISPAB agenda will include a period of time, not to exceed thirty minutes, for oral comments from the public (Friday, October 24, 2014, between 10:00 a.m. and 10:30 a.m.). Speakers will be selected on a first-come, first-served basis. Each speaker will be limited to five minutes. Questions from the public will not be considered during this period. Members of the public who are interested in speaking are requested to contact Annie Sokol at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Dated: September 17, 2014.
Willie E. May,
Associate Director for Laboratory Programs.

[FR Doc. 2014-22623 Filed 9-22-14; 8:45 am]

BILLING CODE 3510-13-P